SUSQUEHANNA RIVER BASIN COMMISSION

Actions Taken at March 5, 2015, Meeting

AGENCY: Susquehanna River Basin Commission.

ACTION: Notice.

SUMMARY: As part of its regular business meeting held on March 5, 2015, in Hershey, Pennsylvania, the Commission took the following actions: (1) approved or tabled the applications of certain water resources projects; (2) accepted a settlement in lieu of penalty from Cabot Oil & Gas Corporation; and (3) took additional actions, as set forth in the Supplementary Information below.

DATES: March 5, 2015.

ADDRESSES: Susquehanna River Basin Commission, 4423 N. Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) Adoption of a final, revised FY2016 budget; (2) approval/ratification of one grant, one grant amendment, and one contract; (3) adoption of a resolution encouraging the use of dry cooling technology as appropriate for power generation and other facilities for the conservation of the waters of the Susquehanna River Basin; (4) a report on a delegated settlement with Talisman Energy USA, pursuant to SRBC Resolution 2014-15, in the amount of $8,000; and (5) postponement to the June 2015 Commission meeting of a Show Cause proceeding with Four Seasons Golf Course over its failure to abide by the terms of the settlement agreement accepted at the September 2014 Commission meeting.

Compliance Matter

The Commission approved a settlement in lieu of civil penalty for the following project:

1. Cabot Oil & Gas Corporation (StellitanoA P1 Well Pad), Gibson Township, Susquehanna County, Pa.—$50,000.

Project Applications Approved

The Commission approved the following project applications:

1. Project Sponsor and Facility: ADLIB Resources, Inc. (Meshoppen Creek), Springville Township, Susquehanna County, Pa. Renewal and modification to increase surface water withdrawal by an additional 0.251 mgd (peak day), for a total of up to 0.500 mgd (peak day) (Docket No. 20101206).

2. Project Sponsor and Facility: Carrizo (Marcellus), LLC (Mosquito Creek), Karthaus Township, Clearfield County, Pa. Surface water withdrawal of up to 0.720 mgd (peak day).

3. Project Sponsor and Facility: Chesapeake Appalachia, LLC (Susquehanna River), Braintrim Township, Wyoming County, Pa. Renewal of surface water withdrawal of up to 3.000 mgd (peak day) (Docket No. 20110303).

4. Project Sponsor and Facility: Chief Oil & Gas LLC (Martins Creek), Hop Bottom Borough, Susquehanna County, Pa. Renewal of surface water withdrawal of up to 0.360 mgd (peak day) (Docket No. 20110304).

5. Project Sponsor and Facility: EQT Production Company (West Branch Susquehanna River), Greenwood Township, Clearfield County, Pa. Surface water withdrawal of up to 0.900 mgd (peak day).

6. Project Sponsor and Facility: Keystone Clearwater Solutions, LLC (West Branch Susquehanna River), Curwensville Borough, Clearfield County, Pa. Renewal of surface water withdrawal reduced from originally approved 2.000 mgd (peak day) to up to 1.500 mgd (peak day) (Docket No. 20101204).

7. Project Sponsor and Facility: Linde Corporation (Lackawanna River), Fell Township, Lackawanna County, Pa. Renewal of surface water withdrawal of up to 0.905 mgd (peak day) (Docket No. 20101207).

8. Project Sponsor and Facility: Samson Exploration, LLC (Plum Grove Cameron 5 Strip Mine Pond), Shippen Township, Cameron County, Pa. Renewal of surface water withdrawal of up to 0.090 mgd (peak day) (Docket No. 20110308).

9. Project Sponsor and Facility: Shadow Ranch Resort, Inc. (Tunkhannock Creek), Tunkhannock Township, Wyoming County, Pa. Renewal of surface water withdrawal of up to 0.999 mgd (peak day) (Docket No. 20110310).

10. Project Sponsor and Facility: Southwestern Energy Production Company (Martins Creek), Brooklyn Township, Susquehanna County, Pa. Renewal of surface water withdrawal of up to 0.997 mgd (peak day) (Docket No. 20110312).

11. Project Sponsor and Facility: SWEPI LP (Cowanesque River), Westfield Township, Tioga County, Pa. Renewal of surface water withdrawal of up to 0.375 mgd (peak day) (Docket No. 20101203).

12. Project Sponsor and Facility: Warwick Township Municipal Authority, Warwick Township, Lancaster County, Pa. Groundwater withdrawal of up to 0.288 mgd (30-day average) from Rothsville Well 2.

Project Applications Tabled

The Commission tabled action on the following project applications:

1. Project Sponsor and Facility: Keister Miller Investments, LLC (West Branch Susquehanna River), Mahaffey Borough, Clearfield County, Pa. Application for surface water withdrawal of up to 2.000 mgd (peak day).

2. Project Sponsor and Facility: Shrewsbury Borough, York County, Pa. Application for renewal and modification to increase groundwater withdrawal by an additional 0.024 mgd (30-day average), for a total of up to 0.089 mgd (30-day average) from the Blouse Well (Docket No. 19820103).

3. Project Sponsor and Facility: Shrewsbury Borough, York County, Pa. Application for renewal of groundwater withdrawal of up to 0.099 mgd (30-day average) from the Smith Well (Docket No. 19811203).

Authority: Pub.L. 91-575, 84 Stat. 1509 et seq., 18 CFR parts 806, 807, and 808.

Dated: March 18, 2015.
Stephanie L. Richardson,
Secretary to the Commission.

[FR Doc. 2015-06804 Filed 3-24-15; 8:45 am]

BILLING CODE 7040-01-P